DEPARTMENT OF COMMERCE

National Institute of Standards and Technology

Announcement of a Public Meeting on U.S. Technical Participation in the 13th Quadrennial Conference of the International Organization of Legal Metrology (OIML)

AGENCY: National Institute of Standards and Technology, Commerce.

ACTION: Meeting announcement and request for comments.

SUMMARY: The National Institute of Standards and Technology (NIST) will hold a public meeting to discuss U.S. technical participation in the 13th Quadrennial Conference of the International Organization of Legal Metrology (OIML). This pre-conference public meeting is open to all interested parties.

The principal focus of the public meeting will be the 26 OIML Recommendations on legal measuring instruments that will be presented for ratification by the Conference. These Recommendations and OIML-member nations' technical comments on them will be reviewed with interested parties who will be given an opportunity to present their views on the Recommendations and other relevant issues related to the Conference.

Participants with an expressed interest in particular topics may obtain copies of the OIML Conference technical agenda, including copies of the Recommendations to be ratified, from the OIML International Conference Web site at http://www.oiml.org/events/sydney, at the OIML Web site at http://www.oiml.org, or from the NIST International Legal Metrology Group.

Interested parties wishing to schedule an oral presentation at the pre-conference meeting should provide a written summary of comments to the NIST International Legal Metrology Group no later than 2 October 2008. Written comments from parties unable to attend the pre-conference public meeting are also welcome.

DATES: Pre-conference meeting at the National Institute of Standards and Technology: Thursday, 9 October 2008 from 10 a.m. to 12 noon; Thirteenth OIML International Conference of Legal Metrology in Sydney, Australia, 29-31 October 2008.

ADDRESSES: Pre-conference meeting: National Institute of Standards and Technology, Administration Building, Lecture Room D, 100 Bureau Drive, Gaithersburg, MD 20899; International Conference: Star City Hotel, Sydney, Australia.

FOR FURTHER INFORMATION CONTACT: Mr. Ralph Richter, International Legal Metrology Group, Weights and Measures Division, National Institute of Standards and Technology, Gaithersburg, MD 20899-2600; telephone: 301-975-3997; fax: 301-926-8091; e-mail: ralph.richter@nist.gov.

SUPPLEMENTARY INFORMATION: The International Organization of Legal Metrology (OIML) is an intergovernmental treaty organization in which the United States and 58 other nations are members. Its principal purpose is to harmonize national laws and regulations pertaining to testing and verifying the performance of legal measuring instruments used for equity in commerce, for public and worker health and safety, and for monitoring and protecting the environment. The harmonized results promote the international trade of measuring instruments and products affected by measurement.

Twenty-six Recommendations will be presented for ratification by the Conference in the following two categories; Category 1: those already approved by the International Committee of Legal Metrology (CIML) between 2004 and 2007 and Category 2: those that are expected to be submitted directly to the Conference for ratification. These Recommendations and the OIML-member nations holding the responsible secretariat for their development are listed below:

Category 1

R21 “Taximeters. Metrological and technical requirements, test procedures and test report format.” (revision) (United Kingdom);

R35-1 “Material measures of length for general use. Part 1: Metrological and technical requirements.” (revision) (United Kingdom);

R39 “Rockwell hardness machines.” (revision) (United States);

R49-1 and R49-2 “Water meters intended for the metering of cold potable water and hot water. Part 1: Metrological and technical requirements and Part 2: Test methods.” (revision) (United Kingdom);

R51-1 “Automatic catchweighing instruments. Part 1: Metrological and technical requirements—Tests.” (revision) (United Kingdom);

R65 “Force measuring system of uniaxial material testing machines.” (revision) (United States);

R76-1 “Non-automatic weighing instruments. Part 1: Metrological and technical requirements—Tests.” (revision) (France and Germany);

R82 “Gas chromatographic systems for measuring the pollution from pesticides and other toxic substances.” (revision) (United States);

R83 “Gas chromatograph/mass spectrometer systems for the analysis of organic pollutants in water.” (revision) (United States);

R99 “Amendment: Instruments for measuring vehicle exhaust emissions (joint publication ISO3930/OIML R 99).” (revision) (Netherlands);

R107-1 “Discontinuous totalizing automatic weighing instruments (totalizing hopper weighers). Part 1: Metrological and technical requirements—Tests.” (revision) (United Kingdom);

R116 “Inductively coupled plasma atomic emission spectrometers for the measurement of metal pollutants in water.” (revision) (United States);

R117-1 “Dynamic measuring systems for liquids other than water. Part 1: Metrological and technical requirements.” (revision) (United States and Germany);

R134-1 “Automatic instruments for weighing road vehicles in motion and axle-load measuring. Part 1: Metrological and technical requirements—Tests.” (new document) (United Kingdom);

R137-1 “Gas Meters. Part 1: Requirements.” (new document) (Netherlands);

R138 “Vessels for commercial transactions.” (new document) (Switzerland);

R139 “Compressed gaseous fuel measuring systems for vehicles.” (new document) (Netherlands);

R140 “Measuring systems for gaseous fuel.” (new document) (Netherlands);

B-3/Amend “OIML Certificate System for Measuring Instruments—Amendment.” (new document) (OIML);

B10-1/Amend “Framework for a Mutual Acceptance Arrangement on OIML Type Evaluations (MAA)—Amendment.” (new document) (OIML).

Category 2

R56 “Standard solutions reproducing the conductivity of electrolytes” (revision) (Russian Federation);

R71 “Fixed storage tanks. General requirements” (revision) (Austria and Germany);

R85 “Automatic level gauges for measuring the level of liquid in fixed storage tanks.” (revision) (Austria and Germany);

Procedure for calibration and verification of the main characteristics of thermographic instruments (new document) (Russian Federation);

Automatic refractometers: Methods and means of verification (new document) (Russian Federation).

Dated: August 22, 2008.
James M. Turner,
Deputy Director.

[FR Doc. E8-20147 Filed 9-2-08; 8:45 am]

BILLING CODE 3510-13-P